DEPARTMENT OF HEALTH AND HUMAN SERVICES

National Institutes of Health

Center for Scientific Review; Amended Notice of Meeting

Notice is hereby given of a change in the meeting of the Social Sciences and Population Studies A Study Section, October 3, 2013, 8:30 a.m. to October 4, 2013, 12:00 p.m., Renaissance, Washington, DC Hotel, 999 Ninth Street NW., Washington, DC 20001 which was published in the Federal Register on September 5, 2013, 78 FR Pgs. 54664-54665.

The meeting will be held at the National Institutes of Health, 6701 Rockledge Dr., Bethesda, MD 20892. The meeting will start on December 17, 2013 at 9:00 a.m. and end on December 17, 2013 at 7:00 p.m. The meeting is closed to the public.

Dated: October 24, 2013.
Carolyn A. Baum,
Program Analyst, Office of Federal Advisory Committee Policy.

[FR Doc. 2013-25560 Filed 10-28-13; 8:45 am]

BILLING CODE 4140-01-P